INTERNATIONAL TRADE COMMISSION

[USITC SE-19-024]

Sunshine Act Meetings

Agency Holding the Meeting: United States International Trade Commission.

TIME AND DATE: June 25, 2019 at 9:30 a.m.

PLACE: Room 101, 500 E Street SW, Washington, DC 20436, Telephone: (202) 205-2000.

STATUS: Open to the public.

MATTERS TO BE CONSIDERED: 1. Agendas for future meetings: None.

2. Minutes.

3. Ratification List.

4. Vote on Inv. Nos. 701-TA-452 and 731-TA-1129-1130 (Second Review) (Raw Flexible Magnets from China and Taiwan). The Commission is currently scheduled to complete and file its determinations and views of the Commission by August 30, 2019.

5. Vote on Inv. No. 731-TA-1114 (Second Review) (Steel Nails from China). The Commission is currently scheduled to complete and file its determination and views of the Commission by August 30, 2019.

6. Outstanding action jackets: None.

In accordance with Commission policy, subject matter listed above, not disposed of at the scheduled meeting, may be carried over to the agenda of the following meeting.

By order of the Commission.
Issued: June 10, 2019.
William Bishop,
Supervisory Hearings and Information Officer.

[FR Doc. 2019-12576 Filed 6-11-19; 11:15 am]

BILLING CODE 7020-02-P